DEPARTMENT OF TRANSPORTATION

Federal Aviation Administration

Twelfth Meeting: RTCA Special Committee 220, Automatic Flight Guidance and Control

AGENCY: Federal Aviation Administration (FAA), U.S. Department of Transportation (DOT).

ACTION: Notice of RTCA Special Committee 220, Automatic Flight Guidance and Control.

SUMMARY: The FAA is issuing this notice to advise the public of the twelfth meeting of RTCA Special Committee 220, Automatic Flight Guidance and Control.

DATES: The meeting will be held January 10-12, 2012, from 9 a.m.-5 p.m.

ADDRESSES: The meeting will be held at Hilton Clearwater Beach Resort, 400 Mandalay Avenue, Clearwater Beach, FL 33767.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Special Committee 220, Automatic Flight Guidance and Control. The agenda will include the following:

January 10, 2012

• Introductions

• Review of Meeting Agenda

• Introduction and administrative items

• Review and approval of summary from the first plenary meeting RTCA Paper No. 111-11/SC220-024

• Presentation of FRAC comments WG#2

• Presentation of FRAC comments WG#3

• Break-out sessions for WG#2 and WG#3 to work on disposition of comments

January 11, 2012

• Continue Break-out sessions for WG#2 and WG#3

• Continue disposition of comments

January 12, 2012

• Return to general plenary meeting

• Review of WG#2 status—progress, issues and plan

• Review of WG#3 status—progress, issues and plans

• Review action items

• Agree on date to send out to PMC

• Discuss on extension of charter to cover advanced and NextGen technologies

• Administrative items (meeting schedule, location, and next meeting agenda)

• Any other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 15, 2011.
Robert L. Bostiga,
Manager, Business Operations Branch, Federal Aviation Administration.

[FR Doc. 2011-32864 Filed 12-21-11; 8:45 am]

BILLING CODE 4910-13-P